DEPARTMENT OF AGRICULTURE

Forest Service

Millville Peak/Logan Peak Road Relocation Project, Wasatch-Cache National Forest, Cache County, UT

AGENCY: Forest Service, USDA.

ACTION: Notice of intent to prepare an environmental impact statement.

SUMMARY: The Forest Supervisor of the Wasatch-Cache National Forest gives notice of the agency's intent to prepare an environmental impact statement on a proposal to relocate a total of about 5 miles of the Millville Peak and Logan Peak Roads (Forest Roads 20168 and 20042, respectively) due to road damage and safety concerns. The relocation would place construction in adjacent roadless areas.

DATES: Comments concerning the scope of the analysis must be received by May 12, 2006. The draft environmental impact statement is expected to be published in November 2006, with public comment on the draft material accepted for a period of 45 days, and the final environmental impact statement is expected in March, 2007.

ADDRESSES: Send written comments to Rob Cruz, District Ranger, Logan Ranger District, 1500 East Highway 89, Logan, Utah 84321, ATTN: Millville Peak/Logan Peak Road EIS. Or, e-mail comments to: comments-intermtn-wasatch-cache-logan@fs.fed.us.

FOR FURTHER INFORMATION CONTACT: Evelyn Sibbernsen, Environmental Coordinator, Logan Ranger District, 1500 East Highway 89, Logan, Utah 84321, (435) 755-3620.

SUPPLEMENTARY INFORMATION:

Purpose and Need for Action

The purpose of the Millville Peak/Logan Peak Road Relocation Project is for public safety, resource improvement, and to provide a safe, reliable, ground access route for maintenance of the State-owned communications facility at Logan Peak.

The State of Utah, Information Technology Services, owns a high voltage electrical power line buried beneath the surface of a portion of the public access roadways, Millville Peak Road (Forest Road 20168) and Logan Peak Road (Forest Road 20042). The power line, installed nearly twenty years ago, serves the State-owned radio communications facility located at Logan Peak. The tower houses microwave equipment for several local, state, and national public safety entities providing a vital link in their communications systems.

Normal vehicular and off-highway recreational traffic on the roadway, combined with irregular road maintenance and seasonal erosion, have severely damaged the surface of the roadway to the site, exposing the power line at several locations. The potential for death and serious injury is significant around those locations where the cable has been exposed. Severe damage to the roadway also impacts accessibility to the communications facility at Logan Peak.

The first two-thirds of the 16-mile roadway accessing the communications site have been repaired and maintained where the cable could be buried deeper and the road maintained with additional gravel and installation of proper drainage. However, along the later section where the roadway gets excessively steep and rocky, road damage has resulted in the cable becoming increasingly exposed. Travel on this section of the road is unsafe and limits access to the communications facility on Logan Peak. The cable can no longer be safely covered and the road damage cannot be corrected by maintenance.

There is a need to eliminate the public safety hazard posed by the exposed electrical power cable and a need to improve ground access to this vital communications facility located on Logan Peak.

Proposed Action

The Forest Service proposes to re-Iocate a total of about 5 miles of the Millville Peak and Logan Peak Roads. The new roadways would be relocated away from the cable and designed to maintain an 8% or lower grade. They would be relocated up to one quarter mile from the existing roadways (at the greatest extent) and would have a maintenance level of 2; the same as the existing roads. The old roadways would be physically closed and revegetated.

The Millville Peak Road forms a part of the boundary between the Mount Logan North Roadless Area (19, 197 acres) and the Mount Logan South Roadless Area (17,001 acres). The section of road to be relocated would be constructed near the edge of the two roadless areas. The management prescriptions within which the road would be relocated, Management Prescriptions 3.1w (Watershed Emphasis) and 2.7 (Special Interest Areas), allow no road construction. Re-alignment of the road within the 3.1w or 2.7 management prescriptions would necessitate a non-significant amendment of the Forest Plan.

Possible Alternatives

A no action alternative will be considered as well as any other alternatives that may be developed in response to significant issues.

Responsible Official

The Responsible Official is Faye Krueger, Forest Supervisor, Wasatch-Cache National Forest, 8236 Federal Building, 125 South State Street, Salt Lake City, UT 84138.

Nature of Decision To Be Made

The decision to be made is whether or not to relocate this section of the Millville Peak and Logan Peak Roads and if so, where and to what degree.

Scoping Process

The Forest Service invites comments and suggestions on the scope of the analysis to be included in the Draft Environmental Impact Statement (DEIS). In addition, the Forest Service gives notice that it is beginning a full environmental analysis and decision-making process for this proposal so that interested or affected people may know how they can participate in the environmental analysis and contribute to the final decision. This notice of intent initiates the scoping process which guides the development of the environmental impact statement. The Forest welcomes any public Service comments on the proposal.

Preliminary Issues

Preliminary issues identified by the interdisciplinary team include the effects on the roadless character of the Mount Logan North and Mount Logan South Roadless Areas, the effects on motorized recreation challenge opportunities, access to routes that connect to the portion of the Millville Peak Road that would be relocated (such as Forest Road 20126), effects on snowmobile opportunities and experience from the new road cut just below Logan Peak, the potential for new weed infestations from the new road cut, effects on threatened, endangered, and sensitive plant and wildlife species, and the effectiveness of the old Millville and Logan Peak Road closures in preventing future (unauthorized) use.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: April 6, 2006.
Faye L. Krueger,
Forest Supervisor.

[FR Doc. 06-3481 Filed 4-11-06; 8:45 am]

BILLING CODE 3410-11-M